DEPARTMENT OF AGRICULTURE

Rural Utilities Service

Information Collection Activity; Comment Request

AGENCY: Rural Utilities Service, USDA.

ACTION: Notice and request for comments.

SUMMARY: In accordance with the Paperwork Reduction Act of 1995, the Rural Utilities Service (RUS) invites comments on this information collection for which RUS intends to request approval from the Office of Management and Budget (OMB).

DATES: Comments on this notice must be received by July 30, 2018.

FOR FURTHER INFORMATION CONTACT: Thomas P. Dickson, Acting Director, Program Development and Regulatory Analysis, Rural Utilities Service, 1400 Independence Avenue SW, STOP 1522, Room 5164-South Building, Washington, DC 20250-1522. Telephone: (202) 690-4492, FAX: (202) 720-8435 or email: Thomas.Dickson@wdc.usda.gov.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities (see 5 CFR 1320.8(d)). This notice identifies an information collection that RUS is submitting to OMB for extension.

Comments are invited on: (a) Whether the proposed collection of information is necessary for the proper performance of the functions of the Agency, including whether the information will have practical utility; (b) the accuracy of the Agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to: Thomas P. Dickson, Director, Acting Director, Program Development and Regulatory Analysis, Rural Utilities Service, U.S. Department of Agriculture, STOP 1522, 1400 Independence Avenue SW, Washington, DC 20250-1522. Telephone: (202) 690-4492, FAX: (202) 720-8435 or email Thomas.Dickson@wdc.usda.gov.

Title: Rural Alaska Village Grant Program.

OMB Control Number: 0572-0150.

Type of Request: Extension of a currently approved collection.

Abstract: The Rural Alaska Village Grant (RAVG) Program is authorized under Section 305D of the Consolidated Farm and Rural Development Act (CONACT), (7 U.S.C. 1926(d)), as amended. Governing regulations are currently codified in 7 CFR 1780. Under the RAVG program, the Secretary of Agriculture may make grants to the State of Alaska for the benefit of rural or Native Villages in Alaska to provide for the development and construction of water and wastewater systems to improve the health and sanitation conditions in those Villages. To be eligible to receive a grant under the RAVG program, the project must provide 25 percent in matching funds from the State of Alaska. The matching funds must come from non-Federal sources. The Secretary shall consult with the State of Alaska on a method of prioritizing the allocation of grants according to the needs of, and relative health and sanitation conditions in, each village.

Estimate of Burden: Public reporting burden for this collection of information is estimated to average 1.36 hours per response.

Respondents: Business or other for-profit, not-for-profit institutions, State, Local, or Tribal Government.

Estimated Number of Respondents: 25.

Estimated Number of Responses per Respondent: 13.8.

Estimated Total Annual Burden on Respondents: 469.

Copies of this information collection can be obtained from Rebecca Hunt, Program Development and Regulatory Analysis, at (202) 205-3660, FAX: (202) 720-8435 or email: rebecca.hunt@wdc.usda.gov. All responses to this notice will be summarized and included in the request for OMB approval. All comments will also become a matter of public record.

Dated: April 30, 2018.
Kenneth L. Johnson,
Administrator, Rural Utilities Service.

[FR Doc. 2018-11398 Filed 5-25-18; 8:45 am]

BILLING CODE P